DEPARTMENT OF HEALTH AND HUMAN SERVICES

National Institutes of Health

Center for Scientific Review Amended Notice of Meeting

Notice is hereby given of a change in the meeting of the Center for Scientific Review Special Emphasis Panel, NIH Research Enhancement Award (R15) in Oncological Sciences, March 31, 2020, 10:00 a.m. to March 31, 2020, 06:00 p.m., National Institutes of Health, 6701 Rockledge Drive, Bethesda, MD 20892, which was published in the Federal Register on March 09, 2020, 85 FR 13668.

The meeting format is being changed to a Virtual Meeting. The meeting location, date and time remain the same.

Dated: March 11, 2020.
Ronald J. Livingston, Jr.,
Program Analyst, Office of Federal Advisory Committee Policy.

[FR Doc. 2020-05407 Filed 3-16-20; 8:45 am]

BILLING CODE 4140-01-P